DEPARTMENT OF LABOR

Occupational Safety and Health Administration

Oregon State Standards; Approval

1. Background. Part 1953 of Title 29, Code of Federal Regulations, prescribes procedures under section 18 of the Occupational Safety and Health Act of 1970 (hereinafter called the Act) by which the Regional Administrator for Occupational Safety and Health (hereinafter called Regional Administrator) under a delegation of authority from the Assistant Secretary of Labor for Occupational Safety and Health (hereinafter called the Assistant Secretary (29 CFR 1953.4) will review and approve standards promulgated pursuant to a State plan which has been approved in accordance with section 18(c) of the Act and 29 CFR Part 1902. On December 28, 1972, notice was published in the Federal Register(37 FR 28628) of the approval of the Oregon plan and the adoption of Subpart D to Part 1952 containing the decision.

The Oregon plan provides for adoption of State standards which are at least as effective as comparable Federal standards promulgated under section 6 of the Act. Section 1953.20 provides that where any alteration in the Federal program could have an adverse impact on the at least as effective as status of the State program, a program change supplement to a State plan shall be required. The Oregon plan also provides for the adoption of Federal standards as State standards by reference.

Electric Power

In response to Federal standard changes, the State has submitted by letter dated August 4, 1994, State standards comparable to 29 CFR 1910.269, Electric Power Generation, Transmission, and Distribution; 29 CFR 1910.137, Electrical Protective Equipment; and 29 CFR 1910.331 and 333, Electrical Safety-Related Work Practices, (59 FR 4435, January 31, 1994), and corrections and stays to the effective dates (59 FR 33658, June 30, 1994). The State adopted the Federal standards by reference except for 29 CFR 1910.269(q)(3), which allows bare-hand work under certain circumstances. Oregon added a State-initiated rule that prohibits live-line bare-hand work. The State also adopted two State-initiated rules requiring more frequent testing of insulating rubber gloves and sleeves and a two worker rule. This submission was adopted and effective August 1, 1994, under OR-OSHA Administrative Order (AO) 3-1994.

Machinery and Machine Guarding

In response to Federal standard changes of March 14, 1988 (53 FR 8353), Definitions related to Machinery and Machine Guarding, the State has submitted by letter dated January 11, 1989, State standard amendments comparable to 29 CFR 1910 Subpart O, Machinery and Machine Guarding. Oregon adopted by reference all of Subpart O, Machinery and Machine Guarding (29 CFR 1910.211 through 1910.222) as OAR 437-02 Subdivision O on December 30, 1988, under Oregon APD Administrative Order 22-1988, effective January 1, 1989, and repealed OAR 437, Divisions 64 and 92, except for some additional State-initiated standards. These standards are: OAR 437-02-242(1) & (2), Refuse Collection and Compaction Equipment; OAR 437-02-242(3), Reciprocating Shear Lines; OAR 437-02-242(4), Lockout/Tagout During Repair, Adjustment, Servicing, Cleanup, Lubrication (repealed in 1990 when Oregon adopted the Federal standard by reference); OAR 437-02-242(5) & (6) Requirements for Woodworking-Type Machinery; OAR 437-02-242(7), Portable Grinders; OAR 437-02-242(8), Definitions; OAR 437-02-242(9), Saw Guards; OAR 437-02-242(10), Radial Saws; and OAR 437-02-242(11) Use of Gloves. On February 27, 1990, at OSHA's request, the State repealed OAR 437-02-242(5) & (6) concerning its definition of woodworking-type machinery, under OR-OSHA Administrative Order 5-1990, adopted and effective February 9, 1990. In addition, on its own initiative, the State has submitted by letter dated January 20, 1995, a recodification, without change, of the independent State standard, Rules for Refuse Collection and Compaction Equipment, from OAR 437-02-242(1) & (2) to OAR 437-02-256(1) & (2) respectively; a repeal of OAR 437-02-242(7), Portable Grinders; and a rearrangement and renumbering of the remaining standards contained in OAR 437-02-242. The change was adopted and effective on September 30, 1994, via Oregon AO 6-1994.

Powered Platforms for Building Maintenance

In response to Federal standard changes, the State has submitted by letter dated January 31, 1990, State standards adopted by reference that are identical to 1910.66, Powered Platforms for Building Maintenance (54 FR 31456, July 28, 1989). In addition, on its own initiative, the State adopted by reference Subparts D, E and the rest of F of 29 CFR 1910. This submission was adopted and effective January 23, 1990, under OR-OSHA Administrative Order 4-1990. The State also repealed OAR Division 56, Vehicles, under the same administrative order. National Office review revealed discrepancies and the submission was returned to the State for correction on November 26, 1991. On January 10, 1995, the State submitted a corrective amendment adopted and effective September 30, 1994 under OR-OSHA AO 6-1994. In Subpart E, Means of Egress, the State has adopted standards covering egress from cold storage rooms which are not contained in the federal standards. This standard for walk-in refrigerators, originally adopted and effective April 1, 1985 under OR-OSHA AO 5-1985, was re-numbered as OAR 437-02-048 as part of the Subpart E adoption by reference.

Crane Operator Training

On its own initiative, the State has submitted by letter dated November 1, 1989, Crane Operator Training Requirements, OAR 437-89-010, adopted in OR-OSHA Administrative Order 1-1989, on October 11, 1989, effective August 1, 1990. On July 13, 1990, an Oregon letter informed OSHA of a change in the effective date of the standard to January 12, 1991 (OR-OSHA AO 15-1990 (temp), July 12, 1990). On August 2, a State letter clarified that the January 12, 1991 effective date was only for construction; this correction was done in OR-OSHA AO 17-1990(temp). On October 24, 1991, a State letter amended OAR 437-89-010(25) and deleted Appendices A & B, changing the scope of the standard to cover general industry only (OR-OSHA AO 11-1991, September 13, 1991, effective October 1, 1991). On December 18, 1991, an Oregon letter submitted OAR 437-03-081, Crane Operator Training Requirements for Construction, adopted under OR-OSHA AO 16-1991, on December 16, 1991, effective January 1, 1992. On January 20, 1995, a State letter amended OAR 437-03-081 to clarify that safety training is specified and to add a new appendix OR-F, via OR-OSHA AO 6-1994, adopted and effective September 30, 1994.

Spray Finishing

On its own initiative, the State has submitted by letters dated March 13, 1992 and May 9, 1994, revisions to State rules comparable to 29 CFR 1910.107, Spray Finishing Using Flammable and Combustible Materials (39 FR 23502, June 24, 1974). The State has repealed OAR 437 Division 119, except for a number of additional requirements not included in the Federal standards, and incorporated 29 CFR 1910.107, Spray Finishing Using Flammable and Combustible Materials, by reference as OAR 437-02-1910.107. The State's readoption by reference also incorporates the Federal amendments to 29 CFR 1910.107 through April 12, 1988. The State's standard was adopted February 6, 1992, effective May 1, 1992 under OR-OSHA Administrative Order 2-1992.

Reinforced Plastics Manufacturing

The State on its own initiative has submitted by letter dated December 20, 1982, an independent State standard to cover Reinforced Plastics Manufacturing (OAR 437-155) under Administrative Order 14-1982. After the exchange of several letters and memoranda concerning problems with the standard, the State has submitted by letter dated March 13, 1992, a revised State standard to cover Reinforced Plastics Manufacturing (OAR 437-02-118) under AO 2-1992, adopted February 6, 1992, effective May 1, 1992.

Explosives and Blasting Agents

On its own initiative, the State has submitted by letters dated March 13, 1992 and May 9, 1994, a revision to State rules comparable to 29 CFR 1910.109, Explosives and Blasting Agents (39 FR 23502, June 24, 1974). The State has repealed OAR 437 Division 45, except for some additional requirements not included in the Federal standards and Tables H-21 and H-22, and incorporated 29 CFR 1910.109, Explosives and Blasting Agents, by reference as OAR 437-02-1910.109. The State's readoption by reference incorporates the Federal amendments to 29 CFR 1910.109 through April 12, 1988. The State standard was adopted February 6, 1992, effective May 1, 1992, under OR-OSHA Administrative Order 2-1992.

Fire Protection and Fire Fighters

On its own initiative, the State of Oregon has submitted by letter dated May 2, 1994, a repeal of Division 61, Fire Protection and adoption by reference of Subpart L, 29 CFR 1910.155-165, Fire Protection; and repeal of Division 151, Fire Fighters and the adoption of OAR 437-02-182, new rules for Fire Fighters. The State's Fire Protection standard was adopted by reference August 27, 1993, effective November 1, 1993, under OR-OSHA Administrative Order 14-1993. The State's Fire Fighter standard—a section of Division 2/L, Fire Protection—is a State-initiated standard that covers public sector fire departments, which are not covered by Federal OSHA. This standard was adopted under the same Administrative Order. The Fire Fighter standard is comparable to OSHA's Fire Brigade standard contained in 29 CFR 1910.156. The main difference is that protective clothing such as foot, leg, body, hand and head protection must meet the requirements of NFPA rather than the requirements contained in the standard or other organizations. On its own initiative, the State of Oregon has also submitted by letter dated May 21, 1999 additional revisions and additions to its public sector Fire Fighters standard, OAR 437-02-182. The State upgraded its personal protective equipment requirements and required that each fire fighter involved in rescue, fire suppression or other hazardous duties be provided with and use a Personal Alert Safety System (PASS). Oregon also changed the personnel physical requirements for performing work in emergencies, added a requirement for using an Incident Management system in accordance with NFPA 1561, and added a formula to calculate the water supply requirements for live fire training. Oregon's submission was adopted and effective on March 11, 1998 under OR-OSHA AO 2-1998. On its own initiative, Oregon has also submitted on August 7, 2000 further revisions to its Fire Fighters standard which require the sampling of air every six months from respirator compressors. Oregon's submission was adopted and effective on January 28, 2000 under OR-OSHA AO 2-2000. (Oregon has adopted identically the Federal procedures for interior structural fire fighting, as found in OSHA's Respiratory Protection standard at 1910.134. This standard is cross-referenced in the State's Fire Fighters standard.)

Lead

On its own initiative, Oregon submitted by letter dated December 10, 1990, an amendment to 1910.1025, Lead, which was previously approved (54 FR 38300) on September 15, 1989. The State repealed 1910.1025(a), Scope and Application, and adopted OAR 437-02-371, which states that the lead standard applies to all occupational exposures to lead including agriculture and construction. This change was adopted and effective November 30, 1990 in OR-OSHA Administrative Order 26-1990. However, by letter dated January 20, 1995, the State of Oregon submitted an amendment to OAR 437-02-371 that excludes construction from the application of 1910.1025 due to the new lead in construction standard. The change was adopted and effective September 30, 1994 via OR-OSHA AO 6-1994.

Ventilation

Oregon has submitted State and Federal-initiated standard amendments by letters dated March 13, 1992 and May 9, 1994 which are comparable to 29 CFR 1910.94, Ventilation. The significant State-initiated amendments include updating the ANSI reference for air purity, a requirement for blasting nozzles to be equipped with a deadman switch, addition of nine definitions, and venting of fuel burning heating devices. The Federal amendments were published August 6, 1990 (FR 31984). The State adopted its amendments via Administrative Order 2-1992 on February 6, 1992, effective May 1, 1992.

Noise Exposure

On its own initiative, the State has adopted by letter dated April 23, 1993, a readoption of State rules comparable to OSHA standard 29 CFR 1910.95, Occupational Noise Exposure, as amended through June 28, 1983 (48 FR 29687). Oregon's OAR 437 Division 121 noise standard has been repealed in its entirety by the new State standard, OAR 437-02-1910.95. The State had received written comments on its proposed rule which addressed potential workers' compensation issues and the recordability of hearing loss on the OSHA 200 Log of Occupational Illnesses and Injuries. The State's amendment was adopted under OR-OSHA Administrative Order 4-1993 on April 1, 1993, effective May 1, 1993. Although Oregon adopted the Federal noise standard by reference, the State also included the following significant differences in place of several provisions: Oregon adopted OAR 437-02-095 (in lieu of 29 CFR 1910.95(g)(3)), which requires all persons conducting audiometric testing to be certified without exception. The State did not adopt a rule similar to 29 CFR 1910.95(g)(5)(ii), as Oregon does not allow the Mobile Test Van exception. Oregon did not adopt a standard similar to 29 CFR 1910.95(g)(10)(ii) and its references, 29 CFR 1910.95(i)(2)(iii)(A) and Appendix F because Oregon does not make any allowance for presbycusis. The State did not adopt a standard similar to 29 CFR 1910.95(o), because Oregon Revised Statute (ORS) 654.022 requires all-industry compliance with all standards. All other provisions of 29 CFR 1910.95, Occupational Noise Exposure, have been adopted by reference as OAR 437-02-1910.95.

Handling Materials

On its own initiative, Oregon submitted by letter dated October 6, 1993, a recodification and amendment of the State standard, Handling Materials. The State has repealed OAR 437-63, Handling Materials, in its entirety, and adopted by reference the Federal standard, 29 CFR 1910.176, as OAR 437-02-1910.176. The State's readoption by reference also incorporates the Federal Revocation of Selected General and Special Industry Safety and Health Standards (43 FR 49749, October 24, 1978). Although Oregon has adopted the Federal Handling Materials standard by reference, the State has included the following State-initiated provisions: The State-initiated standards OAR 437-63-005(1) through OAR 437-63-185(23), as approved July 17, 1987 (52 FR 27077), were recodified, without change, as OAR 437-02-221(1)(a) through OAR 437-02-221(37)(u). The State standard OAR 437-63-305, also approved July 17, 1987, was amended and recodified as OAR 437-02-221(38)(a) through OAR 437-02-221(38)(c), Automotive Hoists. The Handling Materials amendments were adopted August 20, 1993, effective November 1, 1993, under OR-OSHA Administrative Order 13-1993.

Overhead and Gantry Cranes

On its own initiative, the State submitted by letter dated October 6, 1993, a recodification and amendment of the State standard, Overhead and Gantry Cranes, OAR 437-02-1910.179. The State has repealed OAR 437-89, Overhead and Gantry Cranes, in its entirety, and adopted by reference the Federal standard 29 CFR 1910.179—as amended through August 6, 1990 (55 FR 32015)—as OAR 437-02-1910.1. The State also added some State-initiated standards: OAR 437-89-010(1) through OAR 437-89-210(1) were recodified and included, without change, as OAR 437-02-228(1)(a) through OAR 437-02-229(2)(d). The State also replaced 1910.179(b)(8), designated personnel, with OAR 437-02-229(2), competent personnel. The Overhead and Gantry Cranes amendments were adopted August 20, 1993, effective November 1, 1993, under OR-OSHA Administrative Order 13-1993.

Crawler Locomotive and Truck Cranes

On its own initiative, the State submitted by letter dated October 6, 1993, a recodification and amendment of the State standard, Crawler Locomotive and Truck Cranes, OAR 437-02-1910.180. The State has repealed OAR 437-89, Crawler Locomotive and Truck Cranes, in its entirety, and adopted by reference the Federal standard 29 CFR 1910.180—as amended through July 17, 1987 (52 FR 27077)—as OAR 437-02-1910.180. The State also recodified and added, without change, some existing State-initiated standards: OAR 437-89-265(6) and (8), Load Rating, were recodified as OAR 437-02-230(2)(a) and (b); OAR 437-89-270, Booms, was recodified as OAR 437-02-230(3); and OAR 437-89-375(1), Hydraulic Cranes, was recodified as OAR 437-02-230(4). In addition, the State incorporated a new provision at OAR 437-02-230(1), Definitions for Authorized and Competent Persons. The Crawler Locomotive and Truck Cranes amendments were adopted on August 20, 1993, effective November 1, 1993, under OR-OSHA Administrative Order 13-1993.

General Environmental Controls

On its own initiative, the State of Oregon has submitted by letter dated January 6, 1993, a repeal of the State standards OAR 437, Divisions 54, 112, 113, and 128, General Environmental Controls, and adoption by reference of comparable Federal standards. Oregon has adopted by reference OSHA standards 1910.141, Sanitation; 1910.143, Nonwater Carriage Disposal Systems; 1910.144, Safety Color Code for Marking Physical Hazards; 1910.145, Specifications for Accident Prevention Signs and Tags; 1910.148, Standards Organizations; 1910.149, Effective Dates; and 1910.150, Sources of Standards. The State's standard was adopted December 7, 1992, effective February 1, 1993, through OR-OSHA Administrative Order 13-1992. Oregon's Sanitation standard includes one difference not previously approved: a requirement that toilet facilities at permanent worksites be reasonably accessible.

Commercial Diving Operations

On its own initiative, the State of Oregon has submitted by letter dated May 6, 1993, a repeal of the State standard OAR 437, Division 86, Commercial Diving Operations, and adoption by reference of the Federal standard at 1910.401-.441. The State's standard was adopted May 4, 1993, effective June 1, 1993, through OR-OSHA Administrative Order 5-1993. Oregon's Commercial Diving standard includes these differences not previously approved: requirements for Inland Emergency Aid, for air supply systems, and testing for carbon monoxide in the supplied air.

Sawmills

On its own initiative, the State of Oregon has submitted by letter dated June 23, 1993, a repeal of the State standard OAR Division 79, Lumber, Plywood and Shingle Manufacturing, and adoption by reference of the comparable Federal standard at 1910.265, Sawmills. The State's standard was adopted June 8, 1993, effective August 1, 1993, through OR-OSHA Administrative Order 7-1993. Oregon's Sawmills standard includes two differences not previously approved: (1) Changing the scope to include plywood manufacturers and cooperage and veneer operations; and (2) providing clarification for other equivalent means for releasing binders. In addition, on its own initiative, the State of Oregon submitted by letter dated June 13, 1997, a repeal of one paragraph, OAR 437-02-0313(5)(c), of the State's Sawmills standard, because foot protection is already covered adequately in Division 2/1, Personal Protective Equipment. The State's amendment was adopted and effective on July 22, 1996, under Oregon AO 3-1996.

Air Receivers

On its own initiative, the State submitted by letter dated October 14, 1993, a recodification and amendment of the State standard on Air Receivers, OAR 437-02-1910.169. The State repealed OAR 437-62, Compressed Gas, Compressed Air Equipment and Pressure Vessels, in its entirety, and adopted by reference the Federal standard 29 CFR 1910.169—as amended through February 10, 1984 (49 FR 5322)—as OAR 437-02-1910.169. In addition, Oregon included the previously approved State-initiated standards OAR 437-02-569, 573, 600, 626, and 629, and recodified them without change as OAR 437-02-210(1)(a) and (b), -210(2)(a), -210(3)(a) and (b), respectively. There is one significant difference in the Air Receivers standard: Oregon also incorporated new rules at OAR 437-02-210(2)(b), -210(2)(b)(A), -210(2)(c), -210(2)(c)(A) and -210(2)(d) which reflect current industry standards for the use of plastic pipe for compressed air. Oregon's standard was adopted under OR-OSHA Administrative Order 10-1993 on July 29, 1993, effective September 15, 1993.

Definitions

On its own initiative, the State submitted by letter dated October 13, 1993, an adoption by reference of the OSHA standard, 29 CFR 1910.241, Definitions, as amended through October 24, 1978 (43 FR 49705). The State, which previously did not have a comparable standard, has adopted the Federal standard by reference as OAR 437-02-1910.241. Oregon also incorporated OAR 437-02-262 (formerly OAR 437-93-005), Additional Definitions. Oregon's standard was adopted under OR-OSHA Administrative Order 10-1993 on July 29, 1993, effective September 15, 1993.

Guarding of Portable Powered Tools

On its own initiative, the State submitted by letter dated October 13, 1993, a recodification and amendment of the State standard, Guarding of Portable Powered Tools, OAR 437-02-1910.243. Oregon has repealed OAR 437-65, Hand Tools, Portable Power Tools and Equipment, and Power Lawn Mowers, in its entirety, and adopted by reference the Federal standard, 29 CFR 1910.243—as amended through February 1, 1985 (50 FR 4649)—as OAR 437-02-1910.243. Oregon's adoption by reference of the Federal standards added some previously approved State-initiated standards that were re-codified without change: OAR 437-65-040(2) through (5), 437-62-040(7), 437-65-040(8), 437-65-040(11) and (12), were recodified as OAR 437-02-266(3)(a) through (i), respectively; and OAR 437-65-045(1) through (7) was recodified as OAR 437-02-266(4)(a) through (g), respectively. The State also incorporated some additional requirements at OAR 437-02-266(1), Lower Guard; and 437-02-266(2)(a) through (e), Power Chain Saws, that were not previously approved. Oregon's standard was adopted under OR-OSHA Administrative Order 10-1993 on July 29, 1993, effective September 15, 1993.

All of these standards amendments were incorporated as part of the Oregon State plan upon adoption.

2. Decision. OSHA has determined that these State standard amendments are at least as effective as the comparable Federal standards, as required by section 18(c)(2) of the Act. The following standards amendments have been in effect since these dates (only the latest amendment date is shown): Electric Power Generation/Transmission/Distribution, Electrical Protective Equipment and Electrical Safety-Related Work Practices (August 1, 1994), Machinery and Machine Guarding (September 30, 1994), Powered Platforms for Building Maintenance (September 30, 1994), Crane Operator Training (September 30, 1994), Spray Finishing (May 1, 1992), Reinforced Plastics Manufacturing (May 1, 1992), Explosives and Blasting Agents (September 30, 1994), Fire Protection and Fire Fighters (January 28, 2000), Lead (September 30, 1994), Ventilation (May 1, 1992), Noise Exposure (May 1, 1993), Handling Materials (November 1, 1993), General Environmental Controls, including Sanitation (February 1, 1993), Commercial Diving (June 1, 1993), Sawmills (July 22, 1996), Air Receivers (September 15, 1993), and Guarding of Portable Powered Tools (September 15, 1993). During that time OSHA has received no indication of significant objection to the State's different standards either as to their effectiveness in comparison to the Federal standard or as to their conformance with the product clause requirements of section 18(c)(2) of the Act. (A different State standard applicable to a product which is distributed or used in interstate commerce must be required by compelling local conditions and not unduly burden interstate commerce.) Oregon's Fire Protection and public sector Fire Fighters standards have been in effect since 1993, although the Fire Fighters standard was amended in March 1998 and January 2000. The private sector Fire Protection standard is identical to the Federal. Since the public sector Fire Fighters standard is at least as effective as the comparable Federal standards, is not specifically applicable to products used or distributed in interstate commerce, and is limited in scope to the public sector in Oregon, OSHA has determined that further opportunity for public comment is not appropriate. OSHA has also determined that the differences between the following State standards amendments and the Federal amendments are minor: Overhead and Gantry Cranes, Crawler Locomotive and Truck Cranes, and Definitions (1910.241).

OSHA therefore approves all the standards and amendments contained in this notice; however, the right to reconsider this approval is reserved should substantial objections be submitted to the Assistant Secretary.

3. Location of Supplement for Inspection and Copying. A copy of the standards, along with the approved plan, may be inspected and copied during normal business hours at the following locations: Office of the Regional Administrator, Occupational Safety and Health Administration, 1111 Third Avenue, Suite 715, Seattle, Washington 98101-3212; Oregon Occupational Safety and Health Division, Department of Consumer and Business Services, Salem, Oregon 97310; and the Office of State Programs, Occupational Safety and Health Administration, Room N-3700, 200 Constitution Avenue, NW, Washington, D.C. 20210.

4. Public Participation. Under 29 CFR 1953.2(c), the Assistant Secretary may prescribe alternative procedures to expedite the review process or for other good cause which may be consistent with applicable laws. The Assistant Secretary finds that good cause exists for not publishing the supplement to the Oregon State Plan as a proposed change and making the Regional Administrator's approval effective upon publication for the following reasons:

1. The standard amendments are at least as effective as the federal standards which were promulgated in accordance with the federal law, including meeting requirements for public participation.

2. The standard amendments were adopted in accordance with the procedural requirements of State law and further public participation would be repetitious.

This decision is effective August 25, 2000.

(Sec. 18, Pub. L. 91-596, 84 STAT. 6108 [29 U.S.C. 667]).

Signed at Seattle, Washington, this 15th day of August, 2000.
Richard S. Terrill,
Regional Administrator.

[FR Doc. 00-21694 Filed 8-24-00; 8:45 am]

BILLING CODE 4510-26-P